DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 15, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://dms.dot.gov.

This notice of receipt of applications for special permit is published in accordance with Part 107 of the Federal hazardous materials transportation law (49 U.S.C. 5117(b); 49 CFR 1.53(b)).

Issued in Washington, DC, on December 8, 2008.
Delmer F. Billings,
Director, Office of Hazardous Materials Special Permits and Approvals.

New Special Permits
Application No. | Docket No. | Applicant | Regulation(s) affected | Nature of special permits thereof
14791-N |  | Heliqwest International Inc., Montrose, CO | 49 CFR 172.101 HMT Column (9B), 172.200, 172.300, 172.400 | To authorize the transportation of certain forbidden explosives and other hazardous materials by helicopter in remote areas of the US for seismic exploration without being subject to hazard communication requirements and quantity limitations. (mode 4)
14792-N |  | CP Industries, McKeesport, PA | 49 CFR 180.205(f)(3) and 180.212 | To authorize the transportation in commerce of certain DOT 3AAX and DOT 3T seamless cylinders that have been repaired. (modes 1, 2, 3)
14794-N |  | Worthington Cylinders of Canada Corp., Tilbury, Ontario | 49 CFR 173.301(a)(1) and (a)(2) and 173.302a(a)(1) | To authorize the manufacture, marking, sale and use of a non-DOT specification cylinder conforming in part with DOT Canada Specifications 4BA for transportation of certain Division 2.2 compressed gases. (modes 1, 2, 3, 4)

[FR Doc. E8-29638 Filed 12-15-08; 8:45 am]

BILLING CODE 4910-60-M